DEPARTMENT OF THE TREASURY

Submission for OMB Review; Comment Request

September 21, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 30, 2000 to be assured of consideration.

Internal Revenue Service (IRS)

OMB Number: 1545-0028.

Form Number: IRS Forms 940 and 940-PR.

Type of Review: Revision.

Title: Employer's Annual Federal Unemployment (FUTA) Tax Return (Form 940); and Planilla Para La Declaracion Anual Del Patrono—La Contribucion Federal Para El Desempleo (FUTA) (Form 940-PR).

Description: Internal Revenue Code (IRC) section 3301 imposes a tax on employees based on the first $7,000 of taxable annual wages paid to each employee. IRS uses the information reported on Forms 940 and 940-PR (Puerto Rico) to ensure that employers have reported and figured the correct FUTA wages and tax.

Respondents: Business or other for-profit, Individuals or households.

Estimated Number of Respondents/Recordkeepers: 1,367,000.

Estimated Burden Hours Per Respondent/Recordkeeper:

| Form 940 | Form 940-PR
Recordkeeping | 12 hrs., 54 min. | 12 hrs., 55 min.
Learning about the law or the form | 1 hr., 12 min. | 1 hr., 0 min.
Preparing and sending the form to the IRS | 1 hr., 43 min. | 1 hr., 25 min.

Frequency of Response: Annually.

Estimated Total Reporting/Recordkeeping Burden: 19,389,199 hours.

Clearance Officer: Garrick Shear,Internal Revenue Service,Room 5244,1111 Constitution Avenue, NW,Washington, DC 20224.

OMB Reviewer: Alexander T. Hunt, (202) 395-7860,Office of Management and Budget,Room 10202, New Executive Office Building,Washington, DC 20503.

Lois K. Holland,
Departmental Reports Management Officer.

[FR Doc. 00-24972 Filed 9-28-00; 8:45 am]

BILLING CODE 4830-01-P